FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 5, 2017.

A. Federal Reserve Bank of Chicago (Colette A. Fried, Assistant Vice President) 230 South LaSalle Street, Chicago, Illinois 60690-1414:

1. Jutta Hansen Revocable Trust No. 2, Whitefish Bay, Wisconsin, Jutta Hansen Trustee; together with Tyler J. Swahn, Roseville, California; Melanie K. Hansen Trust No. 2, Bettendorf, Iowa, Melanie K. Hansen, Bettendorf, Iowa Trustee; Melanie K. Hansen Trust No. 1, Bettendorf, Iowa, Melanie K. Hansen, Bettendorf, Iowa, Trustee; Cooper T. Fergus, Whitefish Bay, Wisconsin; Nolan W. Fergus, Whitefish Bay, Wisconsin; Christian T. Hansen, Grand Mound, Iowa; Kiersten A. Hansen, Grand Mound, Iowa; Lieza C. Hansen, Grand Mound, Iowa; and one minor child; to acquire voting shares of DeWitt Bancorp, Inc. and thereby indirectly acquire DeWitt Bank & Trust Co., both of DeWitt, Iowa.

2. Jeffrey A. Graves, Durant, Iowa, individually, and acting in concert with Carla Graves, Durant, Iowa; to acquire voting shares of DeWitt Bancorp, Inc. and thereby indirectly control DeWitt Bank & Trust Co., both of DeWitt, Iowa.

Board of Governors of the Federal Reserve System, November 15, 2017.
Ann E. Misback,
Secretary of the Board.

[FR Doc. 2017-25107 Filed 11-20-17; 8:45 am]

BILLING CODE P